DEPARTMENT OF TRANSPORTATION

Surface Transportation Board

[STB Finance Docket No. 34423]

M & B Railroad, L.L.C.—Acquisition and Operation Exemption—CSX Transportation, Inc.

M & B Railroad, L.L.C. (MNBR), a Class III rail carrier, has filed a verified notice of exemption under 49 CFR 1150.41 to acquire from CSX Transportation, Inc. (CSXT), and operate two segments of rail line. The first segment extends 30.22 miles from milepost XXB 189.00 (some mileposts on this segment are not a full mile apart) near Burkeville, AL (also known as Burkville), to milepost XXB 222.00 at the Western Junction station in Dallas County, AL. The second segment extends approximately 63.46 miles from milepost OOR 716.25 at the Western Junction station in Dallas County, AL, to milepost ORS 779.71 near Myrtlewood, AL. The segments being acquired also include CSXT's Selma Yard, at Selma, AL, and the following stations (all in Alabama): Myrtlewood (milepost ORS 781), Linden (milepost ORS 771), Hugo, Thomaston (milepost ORS 760), Central Mills, Orville (milepost ORS 736), Selma (milepost ORS 720), Western Junction (mileposts ORS 717/XXB 222), Alamet (milepost XXB 219), Tyler (milepost XXB 213), Benton (milepost XXB 207), Laneville (milepost XXB 204), Whitehall (milepost XXB 200), Latham Spur (milepost XXB 198), Lowndesboro (milepost XXB 194), Robinsons (milepost XXB 190), and Burkeville (milepost XXB 189). The acquisition also includes acquisition by MNBR of l4 miles of incidental overhead trackage rights extending from Burkeville to Montgomery Yard in Montgomery, AL. The trackage rights will allow MNBR to interchange traffic with CSXT at CSXT's Montgomery Yard.

Because MNBR's projected annual revenues will exceed $5 million, MNBR certified to the Board on October 21, 2003,¹ that it had posted the required notice of intent to undertake the proposed transaction at the workplace of the employees on the affected line and had served a copy of the notice of intent on the national offices of all labor unions with employees on the rail line. See 49 CFR 1150.42(e). MNBR stated in its verified notice that the transaction was scheduled to be consummated on November 16, 2003.²

¹ Due to the timing of MNBR's certification to the Board, consummation under these circumstances would have had to be delayed until December 20, 2003 (60 days after MNBR's certification to the Board that it had complied with the requirements of 49 CFR 1150.42(e)). In a decision in this proceeding served on November 3, 2003, however, the Board granted the request by MNBR for waiver of the remainder of the 60-day notice period to allow consummation to occur as early as November 14, 2003.

² It appears on this record that the parties intended to effect the operational changes on November 16, 2003, but that they proposed to “close” on November 14, 2003.

If the verified notice contains false or misleading information, the exemption is void ab initio. Petitions to revoke the exemption under 49 U.S.C. 10502(d) may be filed at any time. The filing of a petition to revoke will not automatically stay the transaction.

An original and 10 copies of all pleadings, referring to STB Finance Docket No. 34423, must be filed with the Surface Transportation Board, 1925 K Street, NW., Washington, DC 20423-0001. In addition, a copy of each pleading must be served on Donald G. Avery, Slover & Loftus, 1224 Seventeenth Street, NW., Washington, DC 20036-3003.

Board decisions and notices are available on our Web site at “www.stb.dot.gov.”

Decided: November 14, 2003.
By the Board, David M. Konschnik, Director, Office of Proceedings.
Vernon A. Williams,
Secretary.

[FR Doc. 03-29034 Filed 11-19-03; 8:45 am]

BILLING CODE 4915-00-P